DEPARTMENT OF ENERGY

Federal Energy Regulatory Commission

[Docket No. PF06-17-000]

Gulf South Pipeline Company; Notice of Intent To Prepare an Environmental Impact Statement for the Proposed East Texas Expansion Project and Request for Comments on Environmental Issues

March 28, 2006.

The staff of the Federal Energy Regulatory Commission (FERC or Commission) will prepare an environmental impact statement (EIS) for the East Texas Expansion Project proposed by the Gulf South Pipeline Company (Gulf South). This notice describes the proposed project, the EIS process and how the public can participate in our ¹ analysis.

¹ “We,” “us,” and “our” refer to the environmental staff of the FERC's Office of Energy Projects.

This notice is being sent to affected landowners; Federal, state, and local government agencies; elected officials; environmental and public interest groups; Native American tribes; other interested parties; and local libraries and newspapers. We encourage government representatives to notify their constituents of this proposed project and encourage them to comment on their areas of concern.

An effort is being made to send this notice to all individuals, organizations and government entities interested in and/or potentially affected by the proposed project. This includes all landowners who are potential right-of-way grantors, whose property may be used temporarily for project purposes or who own homes within distances defined in the Commission's regulations of certain aboveground facilities.

If you received this notice, you are on the environmental mailing list for this project. If you would like to remain on our mailing list, please return the Information Request (Appendix 2). If you do not return the Information Request, you will be removed from the Commission's environmental mailing list.

Summary of the Proposed Project

Gulf South proposes to construct, operate and maintain approximately 146 miles of natural gas pipeline in Desoto, Red River, Bienville, Jackson, Ouachita and Richland Parishes, Louisiana. This pipeline would have the capacity to deliver approximately 1.5 billion cubic feet (BCF) of natural gas per day and would interconnect with three existing interstate natural gas pipeline facilities. Gulf South is also proposing to expand its existing natural gas compressor station in Panola County, Texas; and construct a new natural gas compressor station in Ouachita Parish, Louisiana.

According to Gulf South, the purpose of this project is to transport natural gas from production fields in east Texas and northern Louisiana to markets in the Gulf Coast, Midwestern, Northeastern and Southeastern United States. Gulf South has also stated that the East Texas Expansion Project will satisfy the growing demand for natural gas in the United States.

Specifically, Gulf South is proposing to construct, operate and maintain:

• 146.3 miles of 42-inch-diameter pipeline beginning near Keatchie, Louisiana and extending easterly through Desoto, Red River, Bienville, Jackson, Ouachita and Richland Parishes until connecting with existing pipeline facilities near Delhi, Louisiana.

• An additional 40,000 horsepower (HP) of compression at the existing Carthage Junction Compressor Station in Panola County, Texas.

• A new 26,830 HP compressor station (Vixen Compressor Station) near pipeline mile post 98.3 in Ouachita Parish, Louisiana.

• Meter and regulation stations, mainline block valves, and pigging facilities.

A general location of the proposed pipeline and compressor stations is provided in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Gulf South.

Land Requirements

Construction of the proposed 42-inch-diameter pipeline would generally require the use of a 100 foot construction right-of-way (ROW). The exact size of the construction ROW would vary depending on land type and construction method. Additional temporary work spaces (ATWS), access roads, pipe storage and contractor yards would also be required during construction of the 42-inch-diameter pipeline. Expansion of the Carthage Junction Compressor Station would be conducted within the fenced boundaries of the station. Construction of the proposed Vixen Compressor Station would require the purchase and temporary disturbance of approximately 20 acres of land. Approximately 2,500 acres of land would be temporarily affected by construction of the proposed project.

Operation of the proposed 42-inch-diameter pipeline would require the use of a 60 foot permanent ROW. Operation of the expanded Carthage Junction Compressor Station would not require the use of additional lands. Operation of the proposed Vixen Compressor Station would require the use of approximately 10 acres of land. Approximately 950 acres of land would be permanently affected by operation of the proposed project.

If you are a landowner receiving this notice, you may be contacted by a Gulf South representative about the acquisition of an easement to construct, operate and maintain the proposed project facilities. The pipeline company would seek to negotiate a mutually acceptable agreement. However, if the project is approved by the FERC, that approval conveys with it the right of eminent domain. Therefore, if easement negotiations fail to produce an agreement, the pipeline company could initiate condemnation proceedings in accordance with state law.

The EIS Process

The National Environmental Policy Act (NEPA) requires the Commission to take into account the environmental impacts that could result from the approval of an interstate natural gas pipeline. The FERC will use the EIS to assess the environmental impact that could result if the East Texas Expansion Project is authorized under section 7 of the Natural Gas Act.

NEPA also requires us to discover and address concerns the public may have about proposals under consideration by the Commission. This process is referred to as “scoping.” The main goal of the scoping process is to focus the analysis in the EIS on the important environmental issues. With this Notice of Intent, the Commission staff is requesting public comments on the scope of the issues to be addressed in the EIS. All comments received will be considered during preparation of the EIS. Please note that the scoping period will close on April 27, 2006.

In the EIS, we will discuss impacts that could occur as a result of the construction and operation of the proposed project under these general headings:

• Geology and soils;

• Water resources;

• Wetlands and vegetation;

• Fish and wildlife;

• Threatened and endangered species;

• Land use, recreation and visual resources;

• Air quality and noise;

• Cultural resources;

• Socioeconomics;

• Reliability and safety; and

• Cumulative impacts.

In the EIS, we will also evaluate possible alternatives to the proposed project or portions of the project and make recommendations on how to lessen or avoid impacts on affected resources.

Our independent analysis of the issues will be included in a draft EIS. The draft EIS will be mailed to Federal, state and local government agencies; elected officials; environmental and public interest groups; Native American tribes; affected landowners; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this notice.

Although no formal application has been filed, the FERC staff has already initiated its NEPA review under its Pre-filing Process. The purpose of the Pre-filing Process is to encourage the early involvement of interested stakeholders and to identify and resolve issues before an application is filed.

With this notice, we are also asking federal, state and local governmental agencies with jurisdiction and/or special expertise with respect to environmental issues to express their interest in becoming cooperating agencies for the preparation of the EIS. These agencies may choose to participate once they have evaluated the proposal relative to their responsibilities. Agencies that would like to request cooperating status should send a letter expressing that interest and expected level of involvement to the Secretary of the Commission at the address provided in the public participation section of this notice.

Currently Identified Environmental Issues

The EIS will discuss impacts that could occur as a result of the construction, operation and maintenance of the proposed project. We have already identified several issues that we think deserve attention based on a preliminary review of the project site, interaction with the public during the pre-filing process and information provided by Gulf South. This preliminary list of issues may be changed based on your comments and our analysis.

• The minimization of construction rights-of-way and associated construction impacts.

• Potential effects on prime farmland and soils with a high potential for compaction.

• Potential impacts to existing land uses, including residences, suburban housing developments, agricultural and managed forested lands.

• Potential increases in noise resulting from the construction of pipeline compression.

• Potential impacts to perennial and intermittent waterbodies, including waterbodies with federal and/or state designations.

• Evaluation of temporary and permanent impacts on wetlands and development of appropriate mitigation.

• Potential impacts to fish and wildlife habitat, including potential impacts to federally and state-listed threatened and endangered species.

• Potential impacts to wildlife management areas.

• Potential impacts and benefits of construction workforce on local housing, infrastructure, public services and economy.

• Public safety and potential hazards associated with the transport of natural gas.

• Alternative alignments for the pipeline route.

• Assessment of the effect of the proposed project when combined with other past, present, or reasonably foreseeable future actions in the project area.

Public Participation

You can make a difference by providing us with your specific comments or concerns about the proposed project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please carefully follow these instructions:

• Send an original and two copies of your letter to: Magalie R. Salas, Secretary, Federal Energy Regulatory Commission, 888 First St., NE., Room 1A, Washington, DC 20426.

• Label one copy of your comments for the attention of Gas Branch 2, DG2E.

• Reference Docket No. PF06-17-000 on the original and both copies.

• Mail your comments so that they will be received in Washington, DC on or before April 27, 2006.

Please note that we are continuing to experience delays in mail deliveries from the U.S. Postal Service. As a result, we will include all comments that we receive within a reasonable time frame in our environmental analysis of this project. The Commission strongly encourages electronic filing of any comments in response to this Notice of Intent. For information on electronically filing comments, please see the instructions on the Commission's Web site at http://www.ferc.gov; before you can submit comments you will need to create a free account.

Public scoping meetings are designed to provide another opportunity to offer comments on the proposed project. The FERC will announce plans for public scoping meetings in the vicinity of the proposed project once Gulf South has filed additional information with the Commission. Interested groups and individuals are encouraged to attend these meetings and to present comments on the environmental issues they believe should be addressed in the EIS. A transcript of each meeting will be generated so that comments are accurately recorded.

Once Gulf South formally files its application with the Commission, you may want to become an official party to the proceeding known as an “intervenor.” Intervenors play a more formal role in the process and are able to file briefs, appear at hearings and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Availability of Additional Information

Gulf South has established an Internet Web site for this project at http://www.gulfsouthpl.com. This Web site includes a description of the project, a map of the proposed pipeline route and answers to frequently asked questions. You can also request additional information or provide comments directly to Gulf South at 1-877-972-8533 or by e-mail at easttexasexpansionproject @gulfsouthpl.com.

Additional information about this project can also be obtained by contacting the Commission's Office of External Affairs, at 1-866-208—FERC (3372). Additional information is also available on the Internet at http://www.ferc.gov. The “eLibrary link” on the FERC Web site provides access to documents submitted to and issued by the Commission, such as comments, orders, notices and rulemakings. Once on the FERC website, click on the “eLibrary link,” select “General Search” and in the “Docket Number” field enter the project docket number excluding the last three digits (PF06-17). When researching information be sure to select an appropriate date range. In addition, the FERC now offers a free email service called eSubscription that allows you to keep track of all formal issuances and submittals in specific dockets. This can reduce the amount of time you spend researching proceedings by automatically providing you with notification of these filings, document summaries and direct links to the documents. To register for this service, go to http://www.ferc.gov/esubscribenow.htm.

Public meetings or site visits will be posted on the Commission's calendar located at http://www.ferc.gov/EventCalendar/EventsList.aspx along with other related information.

For assistance with the FERC Web site or with eSubscription, please contact FERC Online Support at FERCOnlineSupport@ferc.gov or toll free at 1-866-208-3676, or TTY, contact (202) 502-8659.

Magalie R. Salas,
Secretary.

Appendix 2—Information Request

[Docket No. PF06-17-000]

☐ Please keep my name on the mailing list for the East Texas Expansion Project.

Name

Agency

Address

City

State

Zip Code

☐ Please send me a paper copy of the environmental document instead of an electronic copy (compact disc).

From

ATTN: OEP—Gas 2, PJ—11.2, Federal Energy Regulatory Commission, 888 First Street, NE., Washington, DC 20426.

(Docket No. PF06-17-000)

Staple or Tape Here

[FR Doc. E6-4873 Filed 4-4-06; 8:45 am]

BILLING CODE 6717-01-P